DEPARTMENT OF COMMERCE

International Trade Administration

[A-583-803]

Light-Walled Welded Rectangular Carbon Steel Tubing From Taiwan; Corrected Final Results of Expedited Sunset Review

AGENCY: Import Administration, International Trade Administration, Department of Commerce.

ACTION: Notice of correction to final results of expedited sunset review: light-walled welded rectangular carbon steel tubing from Taiwan.

SUMMARY: On December 3, 1999, the Department of Commerce (“the Department”) published in the Federal Register the final results of the sunset review of the antidumping duty order on light-walled welded rectangular carbon steel tubing from Taiwan.¹ Subsequent to the publication of the final results, we identified an inadvertent error in the “Scope” section of the notice. Therefore, we are correcting and clarifying this inadvertent error.

¹ See Final Results of Expedited Sunset Review: Light-Walled Welded Rectangular Carbon Steel Tubing from Taiwan, 64 FR 67871 (December 3, 1999).

The error lies in the first sentence of the scope section: “The merchandise subject to this antidumping duty order is Taiwanese light-walled welded carbon steel tubing of rectangular (including square) cross-section, having a wall thickness of not less than 0.065 inches, and 0.375 inches or more, but not over 4.5 inches in outside diameter.” This sentence should be replaced with: “The merchandise covered by the antidumping duty order on Taiwan includes shipments of light-walled welded carbon steel pipes and tubes of rectangular (including square) cross-section having a wall thickness of less than 0.156 inch.” ²

² See Light-Walled Rectangular Carbon Steel Tubing from Taiwan; Final Results of Antidumping Duty Administrative Review, 57 FR 24464 (June 9, 1992).

Effective Date: December 3, 1999.

For Further Information Contact: Kathryn B. McCormick or Melissa G. Skinner, Office of Policy for Import Administration, International Trade Administration, U.S. Department of Commerce, 14th Street & Constitution Avenue, NW, Washington, D.C. 20230: telephone (202) 482-1930 and (202) 482-1560, respectively.

This correction is issued and published in accordance with sections 751(h) and 777(i) of the Act.

Dated: February 28, 2000.
Joseph A. Spetrini,
Acting Assistant Secretary for Import Administration.

[FR Doc. 00-5371 Filed 3-3-00; 8:45 am]

BILLING CODE 3510-DS-P